DEPARTMENT OF COMMERCE

International Trade Administration

[A-570-846]

Brake Rotors from The People's Republic of China: Notice of Extension of Time Limit for Preliminary Results in Antidumping Duty Administrative and New Shipper Reviews

AGENCY: Import Administration, International Trade Administration, Department of Commerce.

SUMMARY: The Department of Commerce (the Department) is further extending the time limit for the preliminary results of the sixth administrative and ninth new shipper reviews of the antidumping duty order on brake rotors from the People's Republic of China (PRC), which cover the period April 1, 2002, through March 31, 2003.

EFFECTIVE DATE: February 10, 2004.

FOR FURTHER INFORMATION CONTACT: Brian Smith at (202) 482-1766, Terre Keaton at (202) 482-1280, or Margarita Panayi at (202) 482-0049, Office 2, AD/CVD Enforcement Group I, Import Administration, International Trade Administration, U.S. Department of Commerce, 14th Street and Constitution Avenue, NW., Washington, DC, 20230.

SUPPLEMENTARY INFORMATION: In accordance with section 751(a)(3)(A) of the Tariff Act of 1930 (the Act), as amended, the Department shall make a preliminary determination in an administrative review of an antidumping duty order within 245 days after the last day of the anniversary month of the date of publication of the order. The Act further provides, however, that the Department may extend that 245-day period to 365 days if it determines it is not practicable to complete the review within the foregoing time period.

Pursuant to 751(a)(2)(B)(iv) of the Act, the Department shall make a preliminary determination in a new shipper review within 180 days after the date on which the review is initiated. However, if the case is extraordinarily complicated, it may extend the 180 day period for the preliminary results to 300 days.

The Department initiated the sixth administrative review¹ of the antidumping duty order on brake rotors from the PRC (68 FR 27781) on May 21, 2003 and the ninth new shipper review² of the antidumping duty order on brake rotors from the PRC (68 FR 33675) on June 5, 2003. Pursuant to section 351.214(j)(3) of its regulations, and with the agreement of Laizhou City Luqi Machinery Co., Ltd. (Luqi), the Department is conducting these reviews concurrently. On October 8, 2003, we extended the time limits for the preliminary results from December 31, 2003, to February 2, 2003, the current deadline. This deadline was not fully extended.

¹ The administrative review respondents are China National Machinery Import & Export Company; Laizhou Hongda Auto Replacement Parts, Co. Ltd.; Qingdao Gren Co.; Yantai Winhere Auto Part Manufacturing Co., Ltd.; Longkou Haimeng Machinery Co., Ltd.; Zibo Luzhou Automobile Parts Co., Ltd.; Hongfa Machinery (Dalian) Co., Ltd.; Qingdao Meita Automotive Industry Co., Ltd.; Shandong Laizhou Huanri Group General; Laizhou Auto Brake Equipment Company, Ltd.; and Longkou TLC Machinery Co., Ltd.

² The new shipper respondent is Laizhou City Luqi Machinery Co., Ltd.

The Department finds that it is not practicable to complete the preliminary results in the administrative review within the above-specified time limit because we must request additional information and/or clarification of submitted data from certain respondents. Given that the Department is conducting the administrative review concurrently with the new shipper review, we determine it appropriate to extend the deadline for both reviews.

Therefore, in accordance with sections 751(a)(3)(A) and 751(a)(2)(B)(iv) of the Act, the Department is extending the time for completion of the preliminary results of these reviews until March 3, 2004.

Dated: February 2, 2004.
Jeffrey May,
Deputy Assistant Secretary for Import Administration.

[FR Doc. 04-2858 Filed 2-9-04; 8:45 am]

BILLING CODE 3510-DS-S